DEPARTMENT OF COMMERCE

International Trade Administration

[A-570-102]

Certain Fabricated Structural Steel From the People's Republic of China: Final Affirmative Determination of Sales at Less Than Fair Value

AGENCY: Enforcement and Compliance, International Trade Administration, Department of Commerce.

SUMMARY: The Department of Commerce (Commerce) determines that certain fabricated structural steel (fabricated structural steel) from the People's Republic of China (China) is being, or is likely to be, sold in the United States at less than fair value (LTFV). The period of investigation is July 1, 2018 through December 31, 2018. The final dumping margins of sales at LTFV are listed below in the “Final Determination” section of this notice.

DATES: Applicable January 30, 2020.

FOR FURTHER INFORMATION CONTACT: Manuel Rey or Benjamin Luberda, AD/CVD Operations, Office II, Enforcement and Compliance, International Trade Administration, U.S. Department of Commerce, 1401 Constitution Avenue NW, Washington, DC 20230; telephone: (202) 482-5518 or (202) 482-2185, respectively.

SUPPLEMENTARY INFORMATION:

Background

On September 10, 2019, Commerce published the Preliminary Determination of sales at LTFV of fabricated structural steel from China,¹ in which we also postponed the final determination to January 23, 2020. The petitioner in this investigation is the American Institute of Steel Construction Full Member Subgroup. The mandatory respondents in this investigation are Jinhuan Construction Group (JCG), Modern Heavy Industries (Taicang) Co., Ltd. (Modern Heavy), and Wison (Nantong) Heavy Industry Co. Ltd. (Wison).²

¹ See Certain Fabricated Structural Steel from the People's Republic of China: Preliminary Determination of Sales at Less Than Fair Value and Postponement of Final Determination, 84 FR 47491 (September 10, 2019) (Preliminary Determination) and accompanying Preliminary Decision Memorandum.

² Consistent with our Preliminary Determination, we are treating Wison (Nantong) Heavy Industry Co., Ltd. and its affiliate Wison Offshore & Marine (Hong Kong) Limited, as a single-entity (collectively, Wison).

A summary of the events that occurred since Commerce published the Preliminary Determination, as well as a full discussion of the issues raised by the parties for this final determination are discussed in the Issues and Decision Memorandum.³ The Issues and Decision Memorandum is a public document and is on file electronically via Enforcement and Compliance's Antidumping and Countervailing Duty Centralized Electronic Service System (ACCESS). ACCESS is available to registered users at http://access.trade.gov, and is available to all parties in the Central Records Unit, room B8024 of the main Commerce building. In addition, a complete version of the Issues and Decision Memorandum can be accessed directly at http://enforcement.trade.gov/frn/index.html. The signed and electronic versions of the Issues and Decision Memorandum are identical in content.

³ See Memorandum, “Issues and Decision Memorandum for the Final Affirmative Determination in the Less-Than-Fair-Value Investigation of Certain Fabricated Structural Steel from the People's Republic of China,” dated concurrently with, and hereby adopted by, this notice (Issues and Decision Memorandum).

Scope of the Investigation

The product covered by this investigation is fabricated structural steel from China. For a complete description of the scope of this investigation, see Appendix I.

Scope Comments

In accordance with the preamble to Commerce's regulations,⁴ the Initiation Notice set aside a period of time for parties to raise issues regarding product coverage (i.e., scope).⁵ Certain interested parties commented on the scope of the investigation as it appeared in the Initiation Notice. Commerce addressed these comments in the Preliminary Determination, wherein Commerce preliminarily modified the scope language.

⁴ See Antidumping Duties; Countervailing Duties, Final Rule, 62 FR 27296, 27323 (May 19, 1997).

⁵ See Certain Fabricated Structural Steel from Canada, Mexico, and the People's Republic of China: Initiation of Less-Than-Fair-Value Investigations, 84 FR 7330, 7331 (March 4, 2019) (Initiation Notice).

In addition, certain interested parties commented on Commerce's preliminary scope decisions. For a summary of the product coverage comments and rebuttal comments submitted to the record for this final determination, and accompanying discussion and analysis of all comments timely received, see the Final Scope Decision Memorandum.⁶ Based on the comments received, Commerce is modifying the scope language as it appeared in the Preliminary Determination. See the revised scope in Appendix I of this notice.

⁶ See Memorandum, “Fabricated Structural Steel from Canada, Mexico, and the People's Republic of China: Final Scope Decision Memorandum,” dated concurrently with, and hereby adopted by, this notice (Final Scope Decision Memorandum).

Analysis of Comments Received

All issues raised in the case and rebuttal briefs by parties in this investigation are addressed in the Issues and Decision Memorandum. A list of the issues raised is attached to this notice as Appendix II.

Verification

As provided in section 782(i) of the Tariff Act of 1930, as amended (the Act), in September 2019, we conducted verifications of the sales and factors of production (FOP) data reported by JCG and Wison. We used standard verification procedures, including an examination of relevant accounting and production records, and original source documents provided by JCG and Wison.

In addition, as provided in section 782(i) of Act, in September 2019, we also attempted to verify the sales and factors information submitted by Modern Heavy, using standard verification procedures. However, as explained in the Issues and Decision Memorandum, we were unable to validate the accuracy of Modern Heavy's FOP reporting.⁷ As a consequence, we find that Modern Heavy's reported FOP data are unverifiable, and thus cannot serve as a reliable basis for reaching a determination in this investigation. For further discussion, see the Issues and Decision Memorandum at Comment 12.

⁷ For discussion of our verification findings, see the Memorandum, “Verification of the Responses of Modern Heavy Industries (Taicang) Co., Ltd. in the Less-Than-Fair-Value Investigation of Certain Fabricated Structural Steel from the People's Republic of China,” dated November 14, 2019.

Changes Since the Preliminary Determination

Based on our review and analysis of the comments received from parties, minor corrections presented at verification, and our verification findings, we made certain changes to the antidumping duty margin calculations for Modern Heavy, JCG, and Wison. As a result of the changes to the respondents' calculated rates, Commerce has revised the rate for those companies entitled to a separate rate, and the China-wide entity. For a discussion of these changes, see the Issues and Decision Memorandum and the Final Calculation Memoranda.⁸

⁸ See Memoranda, “Final Analysis Memorandum for JCG;” and “Final Analysis Memorandum for Wison,” dated concurrently with this notice (collectively, Final Calculation Memoranda).

Adverse Facts Available

In determining Modern Heavy's dumping margin, we find that the application of facts available is appropriate under sections 776(a)(2)(A) through (D) of the Act because Modern Heavy withheld information requested by Commerce, did not submit requested information by the established deadline in the form or manner requested, and provided information that was unable to be verified. Further, in toto, we find that these actions significantly impeded the proceeding. Additionally, we find that Modern Heavy did not cooperate to the best of its ability to comply with Commerce's requests for information, and thus, an adverse inference is warranted in selecting from the facts available, within the meaning of section 776(b) of the Act. Therefore, as AFA, we have assigned Modern Heavy the highest transaction-specific dumping margin calculated for Wison, which is 154.14 percent. For further discussion, see the Issues and Decision Memorandum at “Use of Adverse Facts Available” and Comment 12.

For the reasons explained in the Preliminary Determination, we continue to find that the use of adverse facts available (AFA), pursuant to sections 776(a) and (b) of the Act, is warranted in determining the rate for the China-wide entity.⁹ In selecting the AFA rate for the China-wide entity, Commerce's practice is to select a rate that is sufficiently adverse to ensure that the uncooperative party does not obtain a more favorable result by failing to cooperate than if it had fully cooperated.¹⁰ For the final determination, we are assigning the China-wide entity, as AFA, the highest transaction-specific margin of 154.14 percent, which is for Wison. Because this constitutes primary information, the statutory corroboration requirement in section 776(c) of the Act does not apply. For further discussion, see the Issues and Decision Memorandum at “Use of Adverse Facts Available.”

⁹ The China-wide entity includes those companies who did not submit a separate rate application, and those companies Commerce determined were ineligible to receive a separate rate.

¹⁰ See, e.g., Notice of Preliminary Determination of Sales at Less Than Fair Value and Postponement of Final Determination: Purified Carboxymethyl Cellulose from Finland, 69 FR 77216 (December 27, 2004), unchanged in Notice of Final Determination of Sales at Less Than Fair Value: Purified Carboxymethyl Cellulose from Finland, 70 FR 28279 (May 17, 2005).

Separate Rates

For the final determination, we continue to find that JCG, Modern Heavy, and Wison are eligible for separate rates. Generally, Commerce looks to section 735(c)(5)(A) of the Act, which provides instructions for calculating the all-others rate in an investigation, for guidance when calculating the rate for separate rate respondents that we did not individually examine. Section 735(c)(5)(A) of the Act states that the estimated all-others rate shall be an amount equal to the weighted average of the estimated weighted-average dumping margins established for exporters and producers individually investigated, excluding zero or de minimis margins, and any margins determined entirely under section 776 of Act.¹¹ In this proceeding, Commerce calculated above de minimis rates that are not based entirely on facts available for two mandatory respondents under individual examination, i.e., JCG and Wison. Thus, looking to section 735(c)(5)(A) of the Act for guidance, and consistent with our practice,¹² based on publicly ranged sales data, we are assigning the weighted-average of these mandatory respondents' rates as the rate for non-individually examined companies that have qualified for a separate rate, other than Modern Heavy, whose rate is based entirely on section 776 of the Act as discussed above.

¹¹ See, e.g., Ball Bearings and Parts Thereof from France, Germany, Italy, Japan, and the United Kingdom: Final Results of Antidumping Duty Administrative Reviews and Rescission of Reviews in Part, 73 FR 52823, 52824 (September 11, 2008), and accompanying Issues and Decision Memorandum at Comment 16.

¹² See, e.g., Preliminary Determination of Sales at Less Than Fair Value and Partial Affirmative Determination of Critical Circumstances: Certain Polyester Staple Fiber from the People's Republic of China, 71 FR 77373, 77377 (December 26, 2006), unchanged in Final Determination of Sales at Less Than Fair Value and Partial Affirmative Determination of Critical Circumstances: Certain Polyester Staple Fiber from the People's Republic of China, 72 FR 19690 (April 19, 2007).

Combination Rates

In the Initiation Notice,¹³ Commerce stated that it would calculate producer/exporter combination rates for the respondents that are eligible for a separate rate in this investigation. For a list of the respondents that established eligibility for their own separate rates and the exporter/producer combination rates applicable to these respondents, see Appendix III.

¹³ See Initiation Notice, 84 FR 7330, 7335.

Final Determination

The final estimated weighted-average dumping margins are as follows:

Exporter | Producer | Estimated weighted-average dumping margin (percent) | Cash deposit rate (adjusted for subsidy offset) (percent)
Jinhuan Construction Group | Jinhuan Construction Group | 61.71 | 51.17
Modern Heavy Industries (Taicang) Co., Ltd | Modern Heavy Industries (Taicang) Co., Ltd | 154.14 | 143.60
Wison (Nantong) Heavy Industry Co., Ltd./Wison Offshore & Marine (Hong Kong) Limited | Wison (Nantong) Heavy Industry Co., Ltd | 90.52 | 79.98
Non-Individually Examined Exporters Receiving Separate Rates (see Appendix III) | Producers Supplying the Non-Individually-Examined Exporters (see Appendix III) | 72.19 | 61.65
China-Wide Entity | China-Wide Entity | 154.14 | 143.60

Disclosure

Commerce intends to disclose the calculations performed in connection with this final determination within five days of the date of publication of this notice to parties in this proceeding in accordance with 19 CFR 351.224(b).

Continuation of Suspension of Liquidation

In accordance with section 735(c)(1)(B) of the Act, Commerce will instruct U.S. Customs and Border Protection (CBP) to suspend liquidation of all appropriate entries of fabricated structural steel from JCG, Modern Heavy, Wison, the separate rates companies, and the China-wide entity.

To determine the cash deposit rate, Commerce normally adjusts the estimated weighted-average dumping margin by the amount of domestic subsidy pass-through and export subsidies determined in a companion CVD proceeding when CVD provisional measures are in effect. Accordingly, where Commerce makes an affirmative determination for domestic subsidy pass-through or export subsidies, Commerce offsets the calculated estimated weighted-average dumping margin by the appropriate rate(s). In this case, we have made a negative determination for domestic subsidy pass-through for all respondents, but have also found export subsidies for all respondents. However, suspension of liquidation for provisional measures in the companion CVD case has been discontinued; therefore, we are not instructing CBP to collect cash deposits based upon the adjusted estimated weighted-average dumping margin for those export subsidies at this time.

In addition, pursuant to section 735(c)(1)(B)(ii) of the Act, Commerce will instruct CBP to require a cash deposit equal to the weighted-average amount by which NV exceeds U.S. price as follows: (1) The cash deposit rate for the exporter/producer combination listed in the table above or in Appendix III will be the rate identified for that combination in that table or Appendix III; (2) for all combinations of exporters/producers of merchandise under consideration that have not received their own separate rate above or in Appendix III, the cash deposit rate will be the cash deposit rate established for the China-wide entity; and (3) for all non-Chinese exporters of the merchandise under consideration which have not received their own separate rate above, the cash deposit rate will be the cash deposit rate applicable to the Chinese exporter/producer combination that supplied that non-Chinese exporter. These suspension of liquidation instructions will remain in effect until further notice.

International Trade Commission Notification

In accordance with section 735(d) of the Act, we will notify the International Trade Commission (ITC) of our determination. Because the final determination in this proceeding is affirmative, in accordance with section 735(b)(2) of the Act, the ITC will make its final determination as to whether the domestic industry in the United States is materially injured, or threatened with material injury, by reason of imports of fabricated structural steel from China no later than 45 days after our final determination. If the ITC determines that material injury or threat of material injury does not exist, the proceeding will be terminated and all cash deposits will be refunded. If the ITC determines that such injury does exist, Commerce will issue an antidumping duty order directing CBP to assess, upon further instruction by Commerce, antidumping duties on all imports of the subject merchandise entered, or withdrawn from warehouse, for consumption on or after the effective date of the suspension of liquidation, as discussed above in the “Continuation of Suspension of Liquidation” section.

Notification Regarding Administrative Protective Orders

In the event that the ITC issues a final negative injury determination, this notice will serve as the only reminder to parties subject to an administrative protective order (APO) of their responsibility concerning the destruction of proprietary information disclosed under APO in accordance with 19 CFR 351.305(a)(3). Timely written notification of the return/destruction of APO materials or conversion to judicial protective order is hereby requested. Failure to comply with the regulations and terms of an APO is a violation which is subject to sanction.

Notification to Interested Parties

This determination is issued and published in accordance with sections 735(d) and 777(i)(1) of the Act, and 19 CFR 351.210(c).

Dated: January 23, 2020.
Jeffrey I. Kessler,
Assistant Secretary for Enforcement and Compliance.

Appendix I

Scope of the Investigation

The merchandise covered by the investigation is carbon and alloy fabricated structural steel. Fabricated structural steel is made from steel in which: (1) Iron predominates, by weight, over each of the other contained elements; and (2) the carbon content is two percent or less by weight. Fabricated structural steel products are steel products that have been fabricated for erection or assembly into structures, including, but not limited to, buildings (commercial, office, institutional, and multi-family residential); industrial and utility projects; parking decks; arenas and convention centers; medical facilities; and ports, transportation and infrastructure facilities. Fabricated structural steel is manufactured from carbon and alloy (including stainless) steel products such as angles, columns, beams, girders, plates, flange shapes (including manufactured structural shapes utilizing welded plates as a substitute for rolled wide flange sections), channels, hollow structural section (HSS) shapes, base plates, and plate-work components. Fabrication includes, but is not limited to cutting, drilling, welding, joining, bolting, bending, punching, pressure fitting, molding, grooving, adhesion, beveling, and riveting and may include items such as fasteners, nuts, bolts, rivets, screws, hinges, or joints.

The inclusion, attachment, joining, or assembly of non-steel components with fabricated structural steel does not remove the fabricated structural steel from the scope.

Fabricated structural steel is covered by the scope of the investigation regardless of whether it is painted, varnished, or coated with plastics or other metallic or non-metallic substances and regardless of whether it is assembled or partially assembled, such as into modules, modularized construction units, or sub-assemblies of fabricated structural steel.

Subject merchandise includes fabricated structural steel that has been assembled or further processed in the subject country or a third country, including but not limited to painting, varnishing, trimming, cutting, drilling, welding, joining, bolting, punching, bending, beveling, riveting, galvanizing, coating, and/or slitting or any other processing that would not otherwise remove the merchandise from the scope of the investigation if performed in the country of manufacture of the fabricated structural steel.

All products that meet the written physical description of the merchandise covered by the investigation are within the scope of the investigation unless specifically excluded or covered by the scope of an existing antidumping duty order.

Specifically excluded from the scope of the investigation are:

1. Fabricated steel concrete reinforcing bar (rebar) if: (i) It is a unitary piece of fabricated rebar, not joined, welded, or otherwise connected with any other steel product or part; or (ii) it is joined, welded, or otherwise connected only to other rebar.

2. Fabricated structural steel for bridges and bridge sections that meets American Association of State and Highway and Transportation Officials (AASHTO) bridge construction requirements or any state or local derivatives of the AASHTO bridge construction requirements.

3. Pre-engineered metal building systems, which are defined as complete metal buildings that integrate steel framing, roofing and walls to form one, pre-engineered building system, that meet Metal Building Manufacturers Association guide specifications. Pre-engineered metal building systems are typically limited in height to no more than 60 feet or two stories.

4. Steel roof and floor decking systems that meet Steel Deck Institute standards.

5. Open web steel bar joists and joist girders that meet Steel Joist Institute specifications.

6. Also excluded from the scope of the investigation is scaffolding, and parts and accessories thereof, that comply with ANSI/ASSE A10.8—2011—Scaffolding Safety Requirements, and/or Occupational Safety and Health Administration regulations at 29 CFR part 1926 subpart L—Scaffolds. The outside diameter of the scaffold tubing covered by this exclusion ranges from 25mm to 150mm.

7. Excluded from the scope of the investigation are access flooring systems panels and accessories, where such panels have a total thickness ranging from 0.75 inches to 1.75 inches and consist of concrete, wood, other non-steel materials, or hollow space permanently attached to a top and bottom layer of galvanized or painted steel sheet or formed coil steel, the whole of which has been formed into a square or rectangle having a measurement of 24 inches on each side ± 0.1 inch; 24 inches by 30 inches ± 0.1 inch; or 24 by 36 inches ± 0.1 inch.

8. Excluded from the investigation are the following types of steel poles, segments of steel poles, and steel components of those poles:

• Steel Electric Transmission Poles, or segments of such poles, that meet (1) the American Society of Civil Engineers (ASCE)—Design of Steel Transmission Pole Structures, ASCE/SEI 48 or (2) the USDA RUS bulletin 1724E-214 Guide specification for standard class Steel Transmission Poles. The exclusion for steel electric transmission poles also encompasses the following components thereof: Transmission arms which attach to poles; pole bases; angles that do not exceed 8″ x 8″ x 0.75″; steel vangs, steel brackets, steel flanges, and steel caps; safety climbing cables; ladders; and steel templates.

• Steel Electric Substation Poles, or segments of such poles, that meet the American Society of Civil Engineers (ASCE)—Manuals and Reports on Engineering Practice No. 113. The exclusion for steel electric substation poles also encompasses the following components thereof: Substation dead end poles; substation bus stands; substation mast poles, arms, and cross-arms; steel brackets, steel flanges, and steel caps; pole bases; safety climbing cables; ladders; and steel templates.

• Steel Electric Distribution Poles, or segments of such poles, that meet (1) American Society of Civil Engineers (ASCE)—Design of Steel Transmission Pole Structures, ASCE/SEI 48, (2) USDA RUS bulletin 1724E-204 Guide specification for steel single pole and H-frame structures, or (3) ANSI 05.1 height and class requirements for steel poles. The exclusion for steel electric distribution poles also encompasses the following components thereof: Distribution arms and cross-arms; pole bases; angles that do not exceed 8″ x 8″ x 0.75″; steel vangs, steel brackets, steel flanges, and steel caps; safety climbing cables; ladders; and steel templates.

• Steel Traffic Signal Poles, Steel Roadway Lighting Poles, Steel Parking Lot Lighting Poles, and Steel Sports Lighting Poles, or segments of such poles, that meet (1) the American Association of State Highway and Transportation Officials (AASHTO)—Specifications for Structural Supports for Highway Signs, Luminaires, and Traffic Signals, (2) any state or local derivatives of the AASHTO highway sign, luminaries, and traffic signals requirements, or (3) American National Standard Institute (ANSI) C136—American National Standard for Roadway and Area Lighting Equipment standards. The exclusion for steel traffic signal poles, steel roadway lighting poles, steel parking lot lighting poles, and steel sports lighting poles also encompasses the following components thereof: Luminaire arms; hand hole rims; hand hole covers; base plates that connect to either the shaft or the arms; mast arm clamps; mast arm tie rods; transformer base boxes; formed full base covers that hide anchor bolts; step lugs; internal cable guides; lighting cross arms; lighting service platforms; angles that do not exceed 8″ x 8″ x 0.75″; stainless steel hand hole door hinges and wind restraints; steel brackets, steel flanges, and steel caps; safety climbing cables; ladders; and steel templates.

• Communication Poles, or segments of such poles, that meet (1) Telecommunications Industry Association (TIA) ANSI/TIA-222 Structural Standards for Steel Antenna Towers and Antenna Supporting Structures, or (2) American Association of State Highway and Transportation Officials (AASHTO)—Specifications for Structural Supports for Highway Signs, Luminaires, and Traffic Signals. The exclusion for communication poles also encompasses the following components thereof: Luminaire arms; hand hole rims; hand hole covers; base plate that connects the pole to the foundation or arm to the pole; safety climbing cables; ladders; service ground platforms; step lugs; pole steps; steel brackets, steel flanges, and steel caps; angles that do not exceed 8″ x 8″ x 0.75″; coax, and safety brackets; subcomponent kits for antenna mounts weighing 80 lbs. or less; service platforms; ice bridges; stainless steel hand hole door hinges and wind restraints; and steel templates.

• OEM Round or Polygonal Tapered Steel Poles, segments or shaft components of such poles, that meet the (1) ASCE 48 or AASHTO, (2) ANSI/TIA 222, (3) ANSI 05.1, (4) RUS bulletin 1724E-204, or (5) RUS bulletin 1724E-214. The exclusion for OEM round or polygonal tapered steel poles also encompasses the following components thereof: Subcomponent kits for antenna mounts weighing 80 lbs. or less; mounts and platforms; steel brackets, steel flanges, and steel caps; angles that do not exceed 8″ x 8″ x 0.75″; bridge kits; safety climbing cables; ladders; and steel templates.

The inclusion or attachment of one or more of the above-referenced steel poles in a structure containing fabricated structural steel does not remove the fabricated structural steel from the scope of the investigation. No language included in this exclusion should be read or understood to have applicability to any other aspect of this scope or to have applicability to or to exclude any product, part, or component other than those specifically identified in the exclusion.

9. Also excluded from the scope of the investigation are Shuttering, Formworks, Propping and Shoring and parts and accessories thereof that comply with ANSI/ASSE A10.9—Safety Requirements for Concrete and Masonry Work and ACI-347—Recommended Practice for Concrete Formwork. For Shoring and propping made from tube, the outside diameter of the tubing covered by this exclusion ranges from 48mm to 250mm. For Shuttering and Formworks, the panel sizes covered by this exclusion range from 25mm X 600mm to 3000mm X 3000mm.

10. Also excluded from the scope of the investigation are consumer items for do-it-yourself assembly that are prepackaged for retail sale. For the purposes of this exclusion, prepackaged for retail sale means that, at the time of importation, all components necessary to assemble the merchandise, including all steel components, all accessory parts (e.g., screws, bolts, washers, nails), and instructions providing guidance on the assembly of the finished merchandise or directions on where to find such instructions, are enclosed in retail packaging, such that an end-use, retail consumer could assemble the completed product with no additional components. The items may enter the United States in one or in multiple retail packages as long as all of the components are imported together.

The products subject to the investigation are currently classified in the Harmonized Tariff Schedule of the United States (HTSUS) under subheadings: 7308.90.3000, 7308.90.6000, and 7308.90.9590.

The products subject to the investigation may also enter under the following HTSUS subheadings: 7216.91.0010, 7216.91.0090, 7216.99.0010, 7216.99.0090, 7222.40.6000, 7228.70.6000, 7301.10.0000, 7301.20.1000, 7301.20.5000, 7308.40.0000, 7308.90.9530, and 9406.90.0030.

The HTSUS subheadings above are provided for convenience and customs purposes only. The written description of the scope of the investigation is dispositive.

Appendix II

List of Topics Discussed in the Issues and Decision Memorandum

I. Summary

II. Background

III. Scope of the Investigation

IV. Scope Comments

V. Use of Adverse Facts Available

VI. Changes Since the Preliminary Determination

VII. Adjustment Under Section 777A(f) of the Act

VIII. Adjustments to Cash Deposit Rates for Export Subsidies

IX. Discussion of the Issues

General Comments

Comment 1: Value Added Tax

Surrogate Values

Comment 2: Surrogate Country

Comment 3: Surrogate Value for Ocean Freight

Comment 4: Surrogate Value for Truck Freight

Comment 5: Surrogate Value for Timber

Comment 6: Surrogate Value for JCG's Market Economy Input

Comment 7: Surrogate Value for Angle and Channel Steel

Comment 8: Surrogate Value for Steel Grating, Steel Skirting Board

Comment 9: Surrogate Value for Wison's Packing Input

Comment 10: Selling and Distribution Expenses

Company-Specific Comments

Comment 11: JCG's U.S. Sale Classification

Comment 12: Modern Heavy's Verification Failures

Comment 13: Modern Heavy's Moot Arguments

Comment 14: Wison's Galvanizing Costs

Comment 15: Wison's Further Manufacturing Costs

Comment 16: Wison's Further Manufacturing General and Administrative Expenses

Comment 17: Wison's Steel Scrap Offset

Comment 18: United Steel Structures Ltd.'s Separate Rate

X. Recommendation

Appendix III

Separate Rate Companies
Exporter: Non-individually examined exporters receiving separate rates | Producer: Producers supplying the non-individually-examined exporters
Beijing Chengdong International Modular Housing Corporation | Beijing Chengdong International Modular Housing Corporation.
Brantingham & Carroll International Ltd. AKA BCI Engineering | Suzhou Baojia New Energy Technology Co., Ltd.
Brantingham & Carroll International Ltd. AKA BCI Engineering | Suzhou Unique Precision Technology Co., Ltd.
Brantingham & Carroll International Ltd. AKA BCI Engineering | Yueqing Yihua New Energy Technology Co., Ltd.
Shanghai Shuangyan Chemical Equipment Manufacturing Co., Ltd | Shanghai Shuangyan Chemical Equipment Manufacturing Co., Ltd.
Shandhai Yanda Engineering Co., Ltd | Shandhai Yanda Engineering Co., Ltd.
WAP Intelligence Storage Equipment (Shanghai) Corp., Ltd | WAP Intelligence Storage Equipment (Shanghai) Corp., Ltd.
Wuxi Hengtong Metal Framing System Co., Ltd | Wuxi Hengtong Metal Framing System Co., Ltd.
Wuxi Huishan Metalwork Technology Co., Ltd | Wuxi Huishan Metalwork Technology Co., Ltd.
Yanda (Haimen) Heavy Equipment Manufacturing Co., Ltd | Yanda (Haimen) Heavy Equipment Manufacturing Co., Ltd.

[FR Doc. 2020-01720 Filed 1-29-20; 8:45 am]

BILLING CODE 3510-DS-P